DEPARTMENT OF THE TREASURY

Internal Revenue Service

26 CFR Part 1

[TD 9542]

RIN 1545-BE77

Elections Regarding Start-Up Expenditures, Corporation Organizational Expenditures, and Partnership Organizational Expenses; Correction

AGENCY: Internal Revenue Service (IRS), Treasury.

ACTION: Correcting amendment.

SUMMARY: This document contains corrections to final regulations and removal of temporary regulations (TD 9542) that were published in the Federal Register on Wednesday, August 17, 2011 (76 FR 50887) relating to elections to deduct start-up expenditures, organizational expenditures of corporations, and organizational expenses of partnerships. The American Jobs Creation Act of 2004 amended the Internal Revenue Code to permit the optional deduction of a limited amount of these types of expenses that are paid or incurred after October 22, 2004.

DATES: This correction is effective on September 15, 2011 and is applicable August 16, 2011.

FOR FURTHER INFORMATION CONTACT: R. Matthew Kelley, (202) 622-7900 (not a toll-free number).

SUPPLEMENTARY INFORMATION:

Background

The final regulations and removal of temporary regulations that are the subject of this document are under sections 195, 248, and 709 of the Internal Revenue Code.

Need for Correction

As published, the final regulations and removal of temporary regulations (TD 9542) contain errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *.

Par. 2. Section 1.709-1 is amended by revising the last sentences of paragraphs (b)(4) Example 2, Example 5, and Example 6 to read as follows:

§ 1.709-1 Treatment of organization and syndication costs.

* * * * *

(b) * * *

(4) * * *

* * * * *

Example 2. * * * Partnership X may amortize the remaining $34,800 ($36,000 − $1,200 = $34,800) ratably over the remaining 174 months.

* * * * *

Example 5. * * * Partnership X may amortize the remaining $52,200 ($54,000 − $1,800 = $ 52,200) ratably over the remaining 174 months.

Example 6. * * * Partnership X may amortize the remaining $435,000 ($450,000 − $15,000 = $435,000) ratably over the remaining 174 months.

* * * * *

Diane Williams,
Federal Register Liaison, Publications and Regulations Branch, Legal Processing Division, Associate Chief Counsel (Procedure and Administration).

[FR Doc. 2011-23598 Filed 9-14-11; 8:45 am]

BILLING CODE 4830-01-P